DEPARTMENT OF COMMERCE

National Oceanic and Atmospheric Administration

[I.D. 062305C]

North Pacific Fishery Management Council; Notice of Public Meeting

AGENCY: National Marine Fisheries Service (NMFS), National Oceanic and Atmospheric Administration (NOAA), Commerce.

ACTION: Notice of public meeting.

SUMMARY: The North Pacific Fishery Management Council (Council)/Board of Fisheries (BOF) Interim Joint Protocol committee will meet on July 14, 2005, at Anchorage at the Hilton Hotel.

DATES: The meeting will be held July 14, 2005, from 8:30am - 5 pm.

ADDRESSES: The meeting will be held at the Hilton Hotel, 500 w 3rd Avenue, Anchorage, AK.

Council address: North Pacific Fishery Management Council, 605 W. 4th Ave., Suite 306, Anchorage, AK 99501-2252.

FOR FURTHER INFORMATION CONTACT: Council staff, Phone: 907-271-2809.

SUPPLEMENTARY INFORMATION:

Agenda

A further review of the BOF proposals for a State water pollock fishery in the Central and Western GOA areas and the Aleutian Islands a review of additional information on the pollock fisheries in these regions, information on P cod harvests in these areas, and additional information on Steller sea lions receive a report from NMFS on their preliminary review of a revised proposal for a state water pollock fishery in the Central GOA continued work to refine the proposals and determine what steps need to be taken next.

Special Accommodations

These meetings are physically accessible to people with disabilities. Requests for sign language interpretation or other auxiliary aids should be directed to Gail Bendixen at 907-271-2809 at least 7 working days prior to the meeting date.

June 23, 2005
Emily Menashes,
Acting Director, Office of Sustainable Fisheries, National Marine Fisheries Service.

[FR Doc. E5-3363 Filed 6-27-05; 8:45 am]

BILLING CODE 3510-22-S